FEDERAL COMMUNICATIONS COMMISSION

47 CFR Part 54

[WC Docket No. 10-90; FCC 14-54, 16-64, and 18-5]

Connect America Fund

AGENCY: Federal Communications Commission.

ACTION: Final rule; announcement of effective date.

SUMMARY: In this document, the Federal Communications Commission (Commission) announces that the Office of Management and Budget (OMB) has approved, for a period of three years, an information collection associated with the rules for the Connect America Fund Phase II auction contained in the Commission's Connect America Fund Orders, FCC 14-54, FCC 16-64, and FCC 18-5. This document is consistent with the Connect America Fund Orders, which stated that the Commission would publish a document in the Federal Register announcing the effective date of the new information collection requirements.

DATES: The amendment to § 54.315(c)(1)(ii) published at 83 FR 15982, April 13, 2018 is effective August 15, 2018.

FOR FURTHER INFORMATION CONTACT: Alexander Minard, Wireline Competition Bureau at (202) 418-7400 or TTY (202) 418-0484. For additional information concerning the Paperwork Reduction Act information collection requirements contact Nicole Ongele at (202) 418-2991 or via email at Nicole.Ongele@fcc.gov.

SUPPLEMENTARY INFORMATION: The Commission submitted new information collection requirements for review and approval by OMB, as required by the Paperwork Reduction Act (PRA) of 1995, on June 7, 2018. OMB approved the new information collection requirements on July 31, 2018. The information collection requirements are contained in the Commission's Connect America Fund Orders, FCC 14-54, published at 79 FR 39164, July 9, 2014, FCC 16-64, published at 81 FR 44414, July 7, 2016 and FCC 18-5, published at 83 FR 15982, April 13, 2018. The OMB Control Number is 3060-1256. The Commission publishes this document as an announcement of the effective date of the rules published on July 7, 2016 and April 13, 2018. If you have any comments on the burden estimates listed below, or how the Commission can improve the collections and reduce any burdens caused thereby, please contact Nicole Ongele, Federal Communications Commission, Room 1-A620, 445 12th Street SW, Washington, DC 20554. Please include the OMB Control Number, 3060-1256, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received OMB approval on July 31, 2018, for the information collection requirements contained in 47 CFR 54.315(b) and (c) and the amendment to 47 CFR 54.315(c)(1)(ii) published at 81 FR 44414, July 7, 2016 and 83 FR 15982, April 13, 2018. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1256. The foregoing notice is required by the Paperwork Reduction Act of 1995, Public Law 104-13, October 1, 1995, and 44 U.S.C. 3507.

The total annual reporting burdens and costs for the respondents are as follows:

OMB Control Number: 3060-1256.

OMB Approval Date: July 31, 2018.

OMB Expiration Date: July 31, 2021.

Title: Application for Connect America Fund Phase II Auction Support—FCC Form 683.

Form Number: FCC Form 683.

Type of Review: New information collection.

Respondents: Business or other for-profit entities, Not-for-profit institutions, and State, Local or Tribal Governments.

Number of Respondents and Responses: 400 respondents; 800 responses.

Estimated Time per Response: 2-12 hours (on average).

Frequency of Response: Annual reporting requirements, on occasion reporting requirement.

Obligation to Respond: Required to obtain or retain benefits. Statutory authority for this information collection 47 U.S.C. 154, 254 and 303(r) of the Communications Act of 1934, as amended.

Total Annual Burden: 5,600 hours.

Total Annual Cost(s): No Cost.

Nature and Extent of Confidentiality: Although most of the information collected in FCC Form 683 will be made available for public inspection, the Commission will withhold certain information collected in FCC Form 683 from routine public inspection. Specifically, the Commission will treat certain financial and technical information submitted in FCC Form 683 as confidential. In addition, an applicant may use the abbreviated process under 47 CFR 0.459(a)(4) to request confidential treatment of the audited financial statements that are submitted during the post-selection review process. However, if a request for public inspection for this technical or financial information is made under 47 CFR 0.461, and the applicant has any objections to disclosure, the applicant will be notified and will be required to justify continued confidential treatment. To the extent that an applicant seeks to have other information collected in FCC Form 683 or during the post-selection review process withheld from public inspection, the applicant may request confidential treatment pursuant to 47 CFR 0.459.

Privacy Act Impact Assessment: No impact(s).

Needs and Uses: The Commission will use the information collected under this information collection to determine whether Connect America Fund Phase II auction winning bidders are eligible to receive Phase II auction support. In its USF/ICC Transformation Order and Further Notice of Proposed Rulemaking, FCC 11-161, 76 FR 78385, December 16, 2011, the Commission comprehensively reformed and modernized the high-cost program within the universal service fund to focus support on networks capable of providing voice and broadband services. The Commission created the Connect America Fund and concluded that support in price cap areas would be provided through a combination of “a new forward-looking model of the cost of constructing modern multi-purpose networks” and a competitive bidding process (the Connect America Fund Phase II auction or Phase II auction). The Commission also sought comment on proposed rules governing the Connect America Fund Phase II auction, including basic auction design and the application process.

In the Connect America Fund Phase II auction, service providers will compete to receive support of up to $1.98 billion over 10 years to offer voice and broadband service in unserved high-cost areas. The Commission adopted new rules to implement the reforms, conduct the Phase II auction, and determine whether Phase II auction winning bidders are eligible to receive Phase II support. In its April 2014 Connect America Order, FCC 14-54, the Commission adopted various rules regarding participation in the Phase II auction, the term of support, and the eligible telecommunications carrier (ETC) designation process. In its Phase II Auction Order, FCC 16-64, the Commission adopted rules to govern the Phase II auction, including a two-stage application process that includes a pre-auction short-form application to be submitted by parties interested in bidding in the Phase II auction and a post-auction long-form application that must be submitted by winning bidders seeking to become authorized to receive Phase II auction support. In its Phase II Auction Procedures Public Notice, FCC 18-6, 83 FR 13590, March 29, 2018, the Commission adopted the final procedures for the Phase II auction, including the long-form application disclosure and certification requirements for winning bidders seeking to become authorized to receive Phase II auction support. In its Phase II Auction Order on Reconsideration, FCC 18-5, the Commission modified its previously-adopted letter of credit rules to provide some additional relief for Phase II auction support recipients by reducing the costs of maintaining a letter of credit. Based on the Commission's experience with auctions and consistent with the record, this two-stage application process balances the need to collect information essential to conducting a successful auction and authorizing Phase II support with administrative efficiency.

Under this information collection, the Commission will collect information from Connect America Fund Phase II auction winning bidders to determine the recipients of Phase II auction support. To aid in collecting this information, the Commission has created FCC Form 683, which the public will use to provide the disclosures and certifications that must be made by Phase II auction winning bidders in the Connect America Fund Phase II auction seeking to become authorized for Phase II support. Commission staff will review the information collected in FCC Form 683 as part of the post-selection review process to determine whether a long-form applicant is eligible to receive Phase II support.

Federal Communications Commission.
Marlene Dortch,
Secretary, Office of the Secretary.

[FR Doc. 2018-17479 Filed 8-14-18; 8:45 am]

BILLING CODE 6712-01-P